DEPARTMENT OF THE INTERIOR

Bureau of Land Management

[LLCAN00000.L18200000.XZ0000]

Notice of Public Meeting; Northeast California Resource Advisory Council and Subcommittee

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council and its wild horse and burro management subcommittee will meet as indicated below.

DATES: The subcommittee will meet Wednesday, June 30, 2010, at 10 a.m. at the BLM Eagle Lake Field Office, 2950 Riverside Drive, Susanville, CA. The full RAC will meet Friday, July 9, 2010, at 10 a.m. at the BLM Eagle Lake Field Office in Susanville, CA.

FOR FURTHER INFORMATION CONTACT: Nancy Haug, BLM Northern California District manager, (530) 221-1743; or Joseph J. Fontana, BLM public affairs officer, (530) 252-5332.

SUPPLEMENTARY INFORMATION: The 15-member council advises the Secretary of the Interior, through the BLM, on a variety of planning and management issues associated with public land management in northeast California and the northwest corner of Nevada. At the subcommittee meeting members will discuss management of the Wild Horse and Burro program and the BLM's management strategy. The full RAC will consider subcommittee recommendations and develop recommendations to the BLM on the BLM's proposed management strategy. Time for public comments will be set aside at 1 p.m. Depending on the number of persons wishing to speak, and the time available, the time for individual comments may be limited. Members of the public are welcome on field tours, but they must provide their own transportation and lunch. Individuals who plan to attend and need special assistance, such as sign language interpretation and other reasonable accommodations, should contact the BLM as provided above.

Dated: June 14, 2010.
Joseph J. Fontana,
Public Affairs Officer.

[FR Doc. 2010-15052 Filed 6-21-10; 8:45 am]

BILLING CODE 4310-40-P